COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds a product and services to the Procurement List to be furnished by nonprofit agencies employing persons who are blind or have other severe disabilities.

DATES: Effective Date: 7/12/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 4/9/2010 (75 FR 18164-18165), the Committee for Purchase From People Who Are Blind or Severely Disabled published a notice of proposed additions to the Procurement List.

After consideration of the material presented to it concerning capability of qualified nonprofit agencies to provide a product and services and impact of the addition on the current or most recent contractors, the Committee has determined that a product and services listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide a product and services to the Government.

2. The action will result in authorizing small entities to provide a product and services to the Government.

3. There are no known regulatory alternatives which would accomplish the objectives of the Javits-Wagner-O'Day Act (41 U.S.C. 46-48c) in connection with this product and services proposed for addition to the Procurement List.

End of Certification

Accordingly, the following product and services are added to the Procurement List:

Product

Wooden Trunk Locker

NSN: 8460-00-243-3234.

NPA: Employment Source, Inc., Fayetteville, NC.

Contracting Activity: Defense Logistics Agency, Defense Supply Center Philadelphia, Philadelphia, PA.

Coverage: C-List for 50% of the requirements for the Defense Supply Center Philadelphia, Philadelphia, PA.

The Committee for Purchase From People Who Are Blind or Severely Disabled (Committee) operates pursuant to statutory and regulatory requirements. Committee regulations states that for a commodity or service to be suitable for addition to the Procurement List (PL) each of the following criteria must be satisfied: employment potential; nonprofit agency qualifications, capability, and level of impact on the current contractor for the commodity or service.

Comments were received from a commercial company that claims to have previously provided this product to the government. The company stated that they are not currently providing the product to the government; however, placing this item on the PL would impact them since they would lose the opportunity to possibly provide this product to the government in the future. Prior to placing a product or service on the PL, the Committee considers impact on the current or most recent contractor. The Committee does not consider impact on any contractor that may have ever provided a product or service to the government—only the current or most recent contractor. The Committee cannot speculate on the possibility of particular companies being selected to provide products and services to the government in the future.

The commenter also asserted that there is collusion between the nonprofit agency and another small business competitor that will result in its competitor enjoying a profitable subcontract forever if the commercial portion of the trunk locker requirement is added to the PL. Based on a review, the Committee is satisfied that the nonprofit agency complied with its regulations requiring broad competition in selecting its small business subcontractor to supply parts and provide painting support. The nonprofit agency solicited at least three offers and made a best value selection of its subcontractor and is expected to show competition for its subcontractor every five years.

The Committee's responsibility under the Javits-Wagner-O'Day Act (41 U.S.C. 46-48c) is to promote employment opportunities for people who are blind or with other severe disabilities that have an unemployment rate far above people without severe disabilities. The Committee followed its regulatory requirements in considering this project and has determined that this project is suitable for addition to the PL. Addition of this project to the PL will result in employment for people who are blind or with other severe disabilities.

Services

Service Type/Location: Custodial Service, Basewide, Camp Bullis, TX.

NPA: Professional Contract Services, Inc., Austin, TX.

Contracting Activity: Dept. of the Army, XR W6BB ACA Sam Houston, Fort Sam Houston, TX.

Service Type/Location: Custodial Service, Boise Air Traffic Control Tower, 3001 West Harvard Street, Boise, ID.

NPA: Western Idaho Training Company, Caldwell, ID

Contracting Activity: Dept of Trans, Federal Aviation Administration, Renton, WA.

Barry S. Lineback,
Director, Business Operations.

[FR Doc. 2010-14095 Filed 6-10-10; 8:45 am]

BILLING CODE 6353-01-P